DEPARTMENT OF HOMELAND SECURITY

Coast Guard

[Docket No. USCG-2020-0489]

National Offshore Safety Advisory Committee

AGENCY: U.S. Coast Guard, Department of Homeland Security.

ACTION: Notice of Federal Advisory Committee video teleconference meeting.

SUMMARY: The National Offshore Safety Advisory Committee teleconference meeting scheduled for August 26, 2020 and announced in the Federal Register on July 28, 2020 has been rescheduled.

DATES: The meeting announced at 85 FR 45436 has been rescheduled to September 30, 2020, from 10 a.m. to 2:30 p.m. Eastern Daylight Time.

FOR FURTHER INFORMATION CONTACT: Commander Stephen West, Designated Federal Officer of the National Offshore Safety Advisory Committee, 2703 Martin Luther King Jr. Ave. SE, Stop 7509, Washington, DC, 20593-7509, telephone 202-372-1410, fax 202-372-8382 or email: Stephen.E.West@uscg.mil, or Mr. Patrick Clark, telephone 202-372-1358, or email Patrick.W.Clark@uscg.mil.

Dated: August 25, 2020.
Jeffrey G. Lantz,
Director of Commercial Regulations and Standards.

[FR Doc. 2020-19044 Filed 8-26-20; 8:45 am]

BILLING CODE 9110-04-P